DEPARTMENT OF LABOR

Office of the Secretary; Submission for OMB Review: Comment Request

May 11, 2009.

The Department of Labor (DOL) hereby announces the submission of the following public information collection requests (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ESA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of a currently approved collection.

Title of Collection: Application for a Farm Labor Contractor or Farm Labor Contractor Employee Certificate of Registration.

OMB Control Number: 1215-0037.

Agency Form Number: WH-530.

Affected Public: Private Sector—Businesses or other for-profits and Farms.

Total Estimated Number of Respondents: 10,611.

Total Estimated Annual Burden Hours: 5,306.

Total Estimated Annual Costs Burden (excludes hourly wage costs): $4,536.

Description: The Migrant and Seasonal Agricultural Worker Protection Act provides that no individual may perform farm labor contracting activities without a certificate of registration. The Form WH-530 is the application form that provides the Department of Labor with the information necessary to issue certificates specifying the farm labor contracting activities authorized. For additional information, see related notice published at Volume 74 Fed. Reg. 4236 on January 23, 2009.

Agency: Employment Standards Administration.

Type of Review: Extension without change of a currently approved collection.

Title of Collection: Notice of Termination, Suspension, Reduction, or Increase in Benefit Payments.

OMB Control Number: 1215-0064.

Agency Form Number: CM-908.

Affected Public: Private Sector—Businesses or other for-profits.

Total Estimated Number of Respondents: 325.

Total Estimated Annual Burden Hours: 1,400.

Total Estimated Annual Costs Burden (excludes hourly wage costs): $6,300.

Description: Coal mine operators who pay monthly benefits must notify the Department's Division of Coal Mine Workers' Compensation (DCMWC) of any change in payments and the reason for that change. DCMWC uses this notification to monitor payments and ensure that beneficiaries receive the correct benefit rate. For additional information, see related notice published at Volume 74 Fed. Reg 7620 on February 18, 2009.

Agency: Employment Standards Administration.

Type of Review: Extension without change of a currently approved collection.

Title of Collection: Request for Earnings Information.

OMB Control Number: 1215-0112.

Agency Form Number: LS-426.

Affected Public: Individuals or households.

Total Estimated Number of Respondents: 1,600.

Total Estimated Annual Burden Hours: 400.

Total Estimated Annual Costs Burden (excludes hourly wage costs): $720.

Description: The Form LS-426 gathers information regarding an employee's average weekly wage. This information is needed for determination of compensation benefits in accordance with section 10 of the Longshore and Harbor Workers' Compensation Act. For additional information, see related notice published at Volume 73 Fed. Reg 79194 on December 24, 2008.

Agency: Employment Standards Administration.

Type of Review: Extension without change of a currently approved collection.

Title of Collection: Migrant and Seasonal Agricultural Worker Protection Act Wage Statement.

OMB Control Number: 1215-0148.

Agency Form Numbers: WH-501/WH-501S.

Affected Public: Private Sector—Businesses or other for-profits and Farms.

Total Estimated Number of Respondents: 51,542.

Total Estimated Annual Burden Hours: 715,417.

Total Estimated Annual Costs Burden (excludes hourly wage costs): $2,146,250.

Description: The Migrant and Seasonal Agricultural Worker Protection Act (MSPA) requires each farm labor contractor, agricultural employer and agricultural association that employs any migrant or seasonal worker to make, keep, and preserve certain wage records for three years for each such worker and to provide an itemized written statement of this information to each migrant and seasonal agricultural worker each pay period. In addition, the MSPA requires that each farm labor contractor provide copies of all the records noted above for the migrant or seasonal agricultural workers the contractor has furnished to other farm labor contractors, agricultural employers or agricultural associations who use the workers. Except for the worker, the recipient of such records is to retain them for a period of three years. For additional information, see related notice published at Volume 74 Fed. Reg 6660 on February 10, 2009.

Agency: Employment Standards Administration.

Type of Review: Extension without change of a currently approved collection.

Title of Collection: Regulations Governing the Administration of the Longshore and Harbor Workers' Compensation Act.

OMB Control Number: 1215-0160.

Agency Form Numbers: LS-200; LS-201; LS-203; LS-204; LS-262; LS-267; LS-271; LS-274; and LS-513.

Affected Public: Individuals or households.

Total Estimated Number of Respondents: 175,374.

Total Estimated Annual Burden Hours: 66,544.

Total Estimated Annual Costs Burden (excludes hourly wage costs): $66,587.

Description: The regulations and forms cover the submission of information relating to the processing of claims for benefits under the Longshore Act and extensions. For additional information, see related notice published at Volume 74 Fed. Reg 7619 on February 18, 2009.

Agency: Employment Standards Administration.

Type of Review: Extension without change of a currently approved collection.

Title of Collection: Rehabilitation Maintenance Certificate.

OMB Control Number: 1215-0161.

Agency Form Number: OWCP-17.

Affected Public: Individuals or households.

Total Estimated Number of Respondents: 1,300.

Total Estimated Annual Burden Hours: 2,605.

Total Estimated Annual Costs Burden (excludes hourly wage costs): $0.

Description: The OWCP-17 serves as a bill submitted by the program participant or OWCP, requesting reimbursement of expenses incurred due to participation in an approved rehabilitation effort for the preceding four-week period of fraction thereof. For additional information, see related notice published at Volume 74 Fed. Reg 6659 on February 10, 2009.

Agency: Employment Standards Administration.

Type of Review: Extension without change of a currently approved collection.

Title of Collection: Statement of Recovery Forms.

OMB Control Number: 1215-0200.

Agency Form Numbers: CA-1108 and CA-1122.

Affected Public: Private Sector—Businesses or other for-profits and Individuals or households.

Total Estimated Number of Respondents: 3,000.

Total Estimated Annual Burden Hours: 1,425.

Total Estimated Annual Costs Burden (excludes hourly wage costs): $1,350.

Description: These forms are used to obtain information about amounts received as the result of final judgments in litigation, or a settlement of the litigation, brought against a third party who is liable for damages due to a Federal employee comprehensive work-related injury. For additional information, see related notice published at Volume 73 FR 79194 on December 24, 2008.

Darrin A. King,
Departmental Clearance Officer.

[FR Doc. E9-11469 Filed 5-15-09; 8:45 am]

BILLING CODE 4510-28-P